DEPARTMENT OF COMMERCE

National Oceanic and Atmospheric Administration

Hydrographic Services Review Panel

AGENCY: National Ocean Service, National Oceanic and Atmospheric Administration (NOAA), Department of Commerce.

ACTION: Notice of solicitation of nominations for NOAA's Hydrographic Services Review Panel Federal Advisory Committee.

SUMMARY: NOAA is seeking nominations for members to serve on the Hydrographic Services Review Panel (HSRP) Federal Advisory Committee. Nominations are due by February 21, 2025.

DATES: Nominations for members to serve on the HSRP Federal Advisory Committee must be submitted by February 21, 2025, and will be kept on file and used for future HSRP vacancies. NOAA anticipates there will be five vacancies starting on January 1, 2026, each with a four-year term. Current members who may be eligible for a second term in 2026 must reapply. Pursuant to the Hydrographic Services Improvement Act, as amended (HSIA; 33 U.S.C. 892 et seq.), NOAA maintains an active pool of HSRP candidates and solicits nominations for HSRP candidates once each year.

ADDRESSES: Nominations will be accepted by email and should be sent to: Hydroservices.panel@noaa.gov. You will receive a confirmation response.

FOR FURTHER INFORMATION CONTACT: NOAA HSRP Program Manager, Ashley Chappell, email Hydroservices.panel@noaa.gov or phone: 240-429-0293.

SUPPLEMENTARY INFORMATION: Pursuant to the HSIA, NOAA shall solicit nominations for HSRP membership once each year (33 U.S.C. 892c). The HSRP advises the NOAA Administrator “on matters related to the responsibilities and authorities set forth in [the HSIA] and such other appropriate matters as the Administrator refers to the [HSRP] for review and advice.” (33 U.S.C. 892c(b)(1).) The NOAA Administrator's responsibilities and authorities include promoting safe, efficient, and environmentally sound marine transportation under the Coast and Geodetic Survey Act (CGSA; 33 U.S.C. 883 et seq.). To promote safe, efficient, and environmentally sound marine transportation under the CGSA, the HSIA states that the NOAA Administrator shall,

1. acquire and disseminate hydrographic data and provide hydrographic services;

2. promulgate standards for hydrographic data and services;

3. ensure comprehensive geographic coverage of hydrographic services;

4. maintain a national database of hydrographic data, in cooperation with other appropriate Federal agencies;

5. provide hydrographic services in uniform, easily accessible formats; and

6. participate in the development of, and implement for the United States in cooperation with other appropriate Federal agencies, international standards for hydrographic data and services.

The HSRP has fifteen voting members appointed by the NOAA Administrator in accordance with the HSIA, 33 U.S.C. 892c. Voting members are individuals who, by reason of knowledge, experience, or training, are especially qualified in one or more disciplines relating to hydrographic data and services, marine transportation, port administration, vessel pilotage, coastal and fishery management, and other disciplines as determined appropriate by the NOAA Administrator. Two NOAA employees, the Directors of the National Geodetic Survey and the Center for Operational Oceanographic Products and Services, and the Co-Directors of the Center for Coastal and Ocean Mapping/Joint Hydrographic Center serve as non-voting members. The Director of the NOAA Office of Coast Survey serves as the Designated Federal Officer (DFO) along with two Alternate DFOs. Full-time officers or employees of the United States may not be appointed as voting members. Any voting member of the HSRP who is an applicant for or beneficiary of (as determined by the Administrator) any assistance under the HSIA shall disclose to the HSRP that relationship, and may not vote on any other matter pertaining to that assistance.

Voting members of the HSRP serve a four-year term, except that vacancy appointments are for the remainder of the unexpired term of the vacancy. Members serve at the Administrator's discretion and are subject to government ethics standards. Public meetings occur at least twice a year. Voting members receive compensation at a rate established by the Administrator, not to exceed the maximum daily rate payable under 5 U.S.C. 5376 when engaged in performing duties for the HSRP during the public meeting. Members are reimbursed for actual and reasonable travel expenses incurred in performing such duties according to Federal Travel Regulation.

Upon selection and agreement to serve on the HSRP, members become Special Government Employees (SGEs) of the United States Government. An SGE, as defined in 18 U.S.C. 202(a), is an officer or employee of an agency who is retained, designated, appointed, or employed to perform temporary duties, with or without compensation, not to exceed 130 days during any period of 365 consecutive days, either on a full time or intermittent basis. After the selection process is complete, applicants selected to serve on the HSRP must complete the following actions before they can be appointed as an HSRP member:

(a) Security Clearance (online Background Security Check process and fingerprinting conducted through NOAA's Office of Security and Office of Human Capital Services); and

(b) Confidential Financial Disclosure Report—SGEs are required to file a Confidential Financial Disclosure Report to avoid involvement in a real or apparent conflict of interest. You may find information on the Confidential Financial Disclosure Report: https://www.oge.gov/Web/oge.nsf/Resources/OGE+Form+450.

In accordance with the Federal Advisory Committee Act (FACA), as amended (5 U.S.C. app.), and the pertinent FACA Implementing Regulations (41 CFR 102-3.30(c)), NOAA seeks a balanced HSRP membership. Subject matter expertise, with subjects as specified in the HSIA, is the primary criterion considered in the evaluation process. Professional sector representation (academia, industry, research, scientific institution, State and local government, Tribal interests, consultant, non-governmental organization, etc.), geographic expertise, experience working productively with committees and working groups, and leadership with navigation, observations, and positioning are other criteria that will be considered. The diverse membership of the HSRP ensures expertise reflecting the full breadth of the HSRP's responsibilities.

NOAA requests nominations from individuals meeting the criteria above. Nominees are required to submit four items; the nomination package should include all components, be submitted in Microsoft Word and/or PDF, and be no longer than eight pages. The four required items are,

1. A cover letter that responds to the Five Short Response Questions noted below and serves as a statement of interest to serve on the HSRP. Please highlight the nominee's specific area(s) of expertise related to the disciplines and fields described in 33 U.S.C. 892c(c).

2. A short biography of 300-400 words.

3. A resume of 3 pages maximum.

4. The nominee's full work and home contact information including: full name, work title, institutional affiliation, work and home mailing addresses, email address(es), phone number(s), and fax number. Please note preferred email, phone number and mailing address.

Five Short Response Questions for the Cover Letter

1. List your area(s) of expertise from the following list: Hydrographic data and services (e.g., tides, currents, geodetic, and geospatial measurements), marine transportation, port administration, vessel pilotage, coastal and fishery management, and other disciplines in the oceanographic or marine science areas.

2. List the geographic region(s) of the country with which you primarily associate your expertise from the following list: Northeast, Mid-Atlantic, Southeast, Gulf of Mexico, Pacific Northwest, California, Hawaii, Pacific Islands, Alaska, Arctic, Great Lakes, Caribbean, National, and/or International.

3. Describe your leadership or professional experiences that you believe will contribute to the HSRP.

4. Describe your familiarity and experience with NOAA navigation, observations and positioning data, products, and services.

5. Generally describe the breadth and scope of your knowledge of stakeholders, users, or other groups who interact with NOAA and whose views and input you believe you can share with the HSRP.

Additional HSRP information, including past HSRP public meeting summary reports, agendas, presentations, transcripts, webinars, and other information is available online at https://www.nauticalcharts.noaa.gov/hsrp/.

Authority: 33 U.S.C. 892 et seq.; 33 U.S.C. 883a et seq.

Benjamin K. Evans,
RDML, Director, Office of Coast Survey, National Ocean Service, National Oceanic and Atmospheric Administration.

[FR Doc. 2024-12106 Filed 5-31-24; 8:45 am]

BILLING CODE 3510-G1-P